POSTAL SERVICE

Privacy Act of 1974; System of Records

AGENCY: Postal Service™.

ACTION: Notice of a modified system of records.

SUMMARY: The United States Postal Service® (Postal Service) is proposing to revise a Customer Privacy Act Systems of Records (SOR). These changes are being made to support the Targeted Offers Powered by Informed Address service.

DATES: These revisions will become effective without further notice on March 11, 2019, unless, in response to comments received on or before that date, the Postal Service makes any substantive change to the purpose or routine uses set forth, or to expand the availability of information in this system, as described in this notice. If the Postal Service determines that certain portions of this SOR should not be implemented, or that implementation of certain portions should be postponed in light of comments received, the Postal Service may choose to implement the remaining portions of the SOR on the stated effective date, and will provide notice of that action.

ADDRESSES: Comments may be mailed or delivered to the Privacy and Records Management Office, United States Postal Service, 475 L'Enfant Plaza SW, Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service has determined that Customer Privacy Act Systems of Records, USPS 820.300 Informed Delivery, should be revised to support the Targeted Offers application.

Targeted Offers Powered by Informed Address (“Targeted Offers”) is an application that will enable consumers to securely share their preferences related to marketing content with mailers, and mailers to target and prospect consumers based on this data. Targeted Offers will be incorporated into the Informed Delivery platform, allowing the Postal Service to capitalize on Informed Delivery's success and existing user base. Launched nation-wide in FY 2018, Informed Delivery enables consumers to view a gray-scale image of upcoming mail within a daily email, app, or online dashboard. Below these images, mailers have the option to post an additional call to action that links to a digital version of the mailpiece, connecting physical to digital interactions and providing a double-impression for consumers. As a new feature of Informed Delivery, Targeted Offers will encourage new user adoption and provide additional benefits for current users.

Targeted Offers combines two applications that will assist mailers in better reaching their target customers: Digital Offers and IA-Enabled Mail. Digital Offers allows consumers to express mail content preferences via a survey in their Informed Delivery Daily Digest email in order to receive targeted digital offers. In turn, Postal Service will offer Informed Delivery mailers additional digital impressions based on consumer-expressed mail preferences. IA-Enabled Mail allows consumers to opt-into receiving targeted physical mail when expressing mail content preferences. Mailers will then be able to reach these consumers with targeted direct mail campaigns using Informed Address technology.

Informed Address technology replaces a traditional delivery point address with a temporary, alphanumeric IA code that only Postal Service can decode. To enable successful delivery of an IA-enabled mailpiece, the IA code is linked to a consumer's profile and delivery point in an internal Postal Service database. The Postal Service is then able to provide mailers with temporary IA codes for consumers, allowing mailers to send the consumer mail without knowing the consumer's physical address and the Postal Service to protect the consumer's identity. Once the mailpiece enters the mail stream, the IA code is processed on mail processing equipment and delivered accordingly.

Pursuant to 5 U.S.C. 552a (e)(11), interested persons are invited to submit written data, views, or arguments on this proposal. A report of the proposed revisions has been sent to Congress and to the Office of Management and Budget for their evaluations. The Postal Service does not expect this amended systems of records to have any adverse effect on individual privacy rights. The notice for USPS 820.300, Informed Delivery, provided below in its entirety, is as follows:

SYSTEM NAME AND NUMBER

USPS 820.300, Informed Delivery

SECURITY CLASSIFICATION:

None.

SYSTEM LOCATION:

USPS Headquarters; Wilkes-Barre Solutions Center; and Eagan, MN.

SYSTEM MANAGER(S):

Vice President, Product Innovation, United States Postal Service, 475 L'Enfant Plaza SW, Washington, DC 20260-1010; (202) 268-6078.

AUTHORITY FOR MAINTENANCE OF THE SYSTEM:

39 U.S.C. 401, 403, and 404.

PURPOSE(S) OF THE SYSTEM:

1. To support the Informed Delivery notification service which provides customers with electronic notification of physical mail that is intended for delivery at the customer's address.

2. To provide daily email communication to consumers with images of the letter-size mailpieces that they can expect to be delivered to their mailbox each day.

3. To provide an enhanced customer experience and convenience for mail delivery services by linking physical mail to electronic content.

4. To obtain and maintain current and up-to-date address and other contact information to assure accurate and reliable delivery and fulfillment of postal products, services, and other material.

5. To determine the outcomes of marketing or advertising campaigns and to guide policy and business decisions through the use of analytics.

6. To identify, prevent, or mitigate the effects of fraudulent transactions.

7. To demonstrate the value of Informed Delivery in enhancing the responsiveness to physical mail and to promote use of the mail by commercial mailers and other postal customers.

8. To enhance the customer experience by improving the security of Change of Address (COA) and Hold Mail processes.

9. To protect USPS customers from becoming potential victims of mail fraud and identity theft.

10. To identify and mitigate potential fraud in the COA and Hold Mail processes.

11. To verify a customer's identity when applying for COA and Hold Mail services.

12. To support the Targeted Offers application which enables customers to securely share their preferences related to marketing content with mailers.

CATEGORIES OF INDIVIDUALS COVERED BY THE SYSTEM:

1. Customers who are enrolled in Informed Delivery notification service.

2. Customers who are enrolled in Targeted Offers.

3. Mailers that use Informed Delivery notification service to enhance the value of the physical mail sent to customers.

4. Mailers that use Targeted Offers to conduct more targeted digital and physical prospecting campaigns based on consumer preferences.

CATEGORIES OF RECORDS IN THE SYSTEM:

1. Customer information: Name; customer ID(s); mailing (physical) address(es) and corresponding 11-digit delivery point ZIP Code; phone number(s); email address(es); text message number(s) and carrier.

2. Customer account preferences: Individual customer preferences related to email and online communication participation level for USPS and marketing information; and mail content preferences for Targeted Offers.

3. Mailer Information: Mailing Categories for mailers that use Targeted Offers.

4. Customer feedback: Information submitted by customers related to Informed Delivery notification service or any other postal product or service.

5. Subscription information: Date of customer sign-up for services through an opt-in process; date customer opts-out of services; nature of service provided.

6. Data on mailpieces: Destination address of mailpiece; Intelligent Mail barcode (IMb); 11-digit delivery point ZIP Code; and delivery status; identification number assigned to equipment used to process mailpiece.

7. Mail Images: Electronic files containing images of mailpieces captured during normal mail processing operations.

8. User Data associated with 11-digit ZIP Codes: Information related to the user's interaction with Informed Delivery email messages, including but not limited to, email open and click-through rates, dates, times, and open rates appended to mailpiece images (user data is not associated with personally identifiable information).

9. Data on Mailings: Intelligent Mail barcode (IMb) and its components including the Mailer Identifier (Mailer ID or MID), Service Type Identifier (STID) Serial Number, and unique IA code.

RECORD SOURCE CATEGORIES:

Individual customers who request Informed Delivery notification service; usps.com account holders; other USPS systems and applications including those that support online change of address, mail hold services, Premium Forwarding Service, or PO Boxes Online; commercial entities, including commercial mailers or other Postal Service business partners and third-party mailing list providers.

ROUTINE USES OF RECORDS MAINTAINED IN THE SYSTEM, INCLUDING CATEGORIES OF USERS AND PURPOSES OF SUCH USES:

Standard routine uses 1. through 7., 10., and 11. apply.

POLICIES AND PRACTICES FOR STORAGE OF RECORDS:

Automated database and computer storage media.

POLICIES OF PRACTICES FOR RETRIEVAL OF RECORDS:

By customer email address, 11-Digit ZIP Code and/or the Mailer ID component of the Intelligent Mail Barcode.

POLICIES AND PRACTICES FOR RETENTION AND DISPOSAL OF RECORDS:

1. Mailpiece images will be retained up to 7 days (mailpiece images are not associated with personally identifiable information). Records stored in the subscription database are retained until the customer cancels or opts out of the service.

2. User data is retained for 2 years, 11 months.

3. Records existing on computer storage media are destroyed according to the applicable USPS media sanitization practice. Any records existing on paper will be destroyed by burning, pulping, or shredding.

ADMINISTRATIVE, TECHNICAL, AND PHYSICAL SAFEGUARDS:

Computers and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software. Online data transmissions are protected by encryption. Access is controlled by logon ID and password. Online data transmissions are protected by encryption.

RECORD ACCESS PROCEDURES:

Requests for access must be made in accordance with the Notification Procedure above and USPS Privacy Act regulations regarding access to records and verification of identity under 39 CFR 266.5.

CONTESTING RECORD PROCEDURES:

See Notification Procedures below or Record Access Procedures above.

NOTIFICATION PROCEDURES:

Customers who want to know if information about them is maintained in this system of records must address inquiries in writing to the system manager. Inquiries must contain name, address, email, and other identifying information.

EXEMPTIONS PROMULGATED FOR THE SYSTEM:

None.

HISTORY:

December 27, 2018, 83 FR 66768; August 25, 2016, 81 FR 58542.

Ruth Stevenson,
Attorney, Federal Compliance.

[FR Doc. 2019-01346 Filed 2-6-19; 8:45 am]

BILLING CODE P